DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessel placed on the SDN List has been identified as property in which a blocked person has an interest. OFAC is additionally updating the entry on the SDN List for one person.

DATES: This action was issued on April 2, 2025. See Supplementary Information for relevant dates.

FOR FURTHER INFORMATION CONTACT: OFAC: Associate Director for Global Targeting, 202-622-2420; Assistant Director for Licensing, 202-622-2480; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On April 2, 2025, OFAC determined that the property and interests in property subject to U.S. jurisdiction of the following persons are blocked under the relevant sanctions authorities listed below.

On April 2, 2025, OFAC also identified the following vessel as property in which a blocked person has an interest under the relevant sanctions authority listed below.

Vessel

1. AM THESEUS (a.k.a. ZAFAR) (UBKZ6) Bulk Carrier Russia flag; Secondary sanctions risk: section 1(b) of Executive Order 13224, as amended by Executive Order 13886; Vessel Registration Identification IMO 9720263; MMSI 273254900 (vessel) [SDGT] (Linked To: AM ASIA M6 LTD).

Identified as property in which AM ASIA M6 LTD, a person whose property and interests in property are blocked pursuant to E.O. 13224, as amended, has an interest.

On April 2, 2025, OFAC updated the entry on the SDN List for the following person, whose property and interests in property subject to U.S. jurisdiction continue to be blocked under the relevant sanctions authority listed below.

Entity

1. ANSARALLAH (a.k.a. ANSAR ALLAH; a.k.a. ANSARULLAH; a.k.a. “HOUTHI GROUP”; a.k.a. “PARTISANS OF GOD”; a.k.a. “SUPPORTERS OF GOD”), Yemen; Secondary sanctions risk: section 1(b) of Executive Order 13224, as amended by Executive Order 13886 [FTO] [SDGT].

—to—

ANSARALLAH (a.k.a. ANSAR ALLAH; a.k.a. ANSARULLAH; a.k.a. “HOUTHI GROUP”; a.k.a. “PARTISANS OF GOD”; a.k.a. “SUPPORTERS OF GOD”), Yemen; Secondary sanctions risk: section 1(b) of Executive Order 13224, as amended by Executive Order 13886; Digital Currency Address—USDT TC4VsFHJdZ66BdwobZxkudVZBVmQZgCP65; alt. Digital Currency Address—USDT TQ5mpZPbQMSq2s1vSM3RJgiB1AsTsiTpFZ; alt. Digital Currency Address—USDT TXEaKf4rT3rMoD3Vuqnuhwr6vLq6BL5t33; alt. Digital Currency Address—USDT TGUPpmW2bAnMCLe5ih2CFisfCHk4gTFDsx; alt. Digital Currency Address—USDT TDwN1Eq62bqvVhfGAjdRRJjE46jsi5KNMV; alt. Digital Currency Address—USDT TM6Kix9wH8cYQ4rLpFifsQ4ddH3rPX3f8p; alt. Digital Currency Address—USDT TDprk9jeYPVm6khkBp1u7fwuyJcEJFrPWD; alt. Digital Currency Address—USDT TVn4q7L4fKEPbygi7UHq1CKfZxtbeuMV5q [FTO] [SDGT].

Lisa M. Palluconi,
Acting Director, Office of Foreign Assets Control.

[FR Doc. 2025-06372 Filed 4-14-25; 8:45 am]

BILLING CODE 4810-AL-P